DEPARTMENT OF TRANSPORTATION

Federal Aviation Administration

14 CFR Part 39

[Docket No. 98-SW-69-AD; Amendment 39-11528; AD 2000-02-09]

RIN 2120-AA64

Airworthiness Directives; Agusta S.p.A. (Agusta) Model AB412 Helicopters

AGENCY: Federal Aviation Administration, DOT.

ACTION: Final rule; request for comments.

SUMMARY: This amendment adopts a new airworthiness directive (AD) that is applicable to Agusta Model AB412 helicopters with certain rescue hoists installed. This action requires replacing the rescue hoist hook assembly retention pin (retention pin) and periodically inspecting the rescue hoist. This amendment is prompted by an incident in which a rescue hoist hook assembly separated from a helicopter due to a missing retention pin. The actions specified in this AD are intended to prevent separation of the rescue hoist hook assembly from the helicopter due to failure of the retention pin. Loss of the rescue hoist hook assembly could result in loss of the person on the rescue hoist. Also, with the loss of the weight of the hoist cable assembly, the rescue hoist cable could become entangled with a main rotor or tail rotor blade, and result in damage or separation of a rotor blade and subsequent loss of control of the helicopter.

DATES: Effective February 10, 2000.

Comments for inclusion in the Rules Docket must be received on or before March 27, 2000.

ADDRESSES: Submit comments in triplicate to the Federal Aviation Administration (FAA), Office of the Regional Counsel, Southwest Region, Attention: Rules Docket No. 98-SW-69-AD, 2601 Meacham Blvd., Room 663, Fort Worth, Texas 76137.

FOR FURTHER INFORMATION CONTACT: Carroll Wright, Aerospace Engineer, FAA, Rotorcraft Directorate, Rotorcraft Standards Staff, 2601 Meacham Blvd., Fort Worth, Texas 76137, telephone (817) 222-5120, fax (817) 222-5961.

SUPPLEMENTARY INFORMATION: The Registro Aeronautico Italiano (RAI), which is the airworthiness authority for Italy, has notified the FAA that an unsafe condition may exist on Agusta AB412 helicopters with rescue hoist, part number (P/N) BL10300-60 or P/N BL10300-59, installed. The RAI advises that replacement of the retention pin and certain inspections must be accomplished in accordance with Agusta Service Bulletin 412-59, Revision A, dated May 18, 1998, to prevent loss of a rescue hoist hook assembly. Loss of the rescue hoist hook assembly could result in loss of the person on the rescue hoist. Also, with the loss of the weight of the hoist cable assembly, the rescue hoist cable could become entangled with a main rotor or tail rotor blade, and result in damage or separation of a rotor blade and subsequent loss of control of the helicopter.

The FAA has reviewed Agusta Service Bulletin 412-59, Revision A, dated May 18, 1998, which describes procedures for inspecting the rescue hoist and replacing the retention pin.

This helicopter model is manufactured in Italy and is type certificated for operation in the United States under the provisions of section 21.29 of the Federal Aviation Regulations (14 CFR 21.29) and the applicable bilateral airworthiness agreement. Pursuant to this bilateral airworthiness agreement, the RAI has kept the FAA informed of the situation described above. The FAA has examined the findings of the RAI, reviewed all available information, and determined that AD action is necessary for products of this type design that are certificated for operation in the United States.

Since an unsafe condition has been identified that is likely to exist or develop on other Agusta Model AB412 helicopters of the same type design registered in the United States, this AD is being issued to prevent separation of the rescue hoist hook assembly from the helicopter due to failure of the retention pin. This AD requires, before further flight, replacing the retention pin, P/N BL2395, of the hook assembly, P/N S6150-61090-1, unless already accomplished. Thereafter, prior to each flight during which the rescue hoist will be operated, this AD requires:

• Inspecting the rescue hoist for oil leakage and proper electrical and mechanical connections.

• Inspecting the retention pin ring assembly for safety wire integrity;

• Inspecting the pin that is installed on the housing for absence of rotation between the housing and adapter; and

• Inspecting the rescue hoist hook to ensure it rotates freely relative to the housing (number 3 on Figure 1).

This AD also requires, at intervals not to exceed 25 hours time-in-service (TIS):

• Inspecting the rescue hoist attachment and support for cracks, wear, corrosion, damage, and security;

•Inspecting the rescue hoist cable for fraying, wear, and corrosion; and

• Inspecting the rescue hoist cable for proper routing through the guide rollers, pulley, and drum.

• Finally, this AD requires, at intervals not to exceed 12 calendar months:

• Inspecting the retention pin for scratches or deformations, and replacing the retention pin if scratches or deformations are found.

The short compliance time involved is required because the previously described critical unsafe condition can adversely affect the safe operation of the rescue hoist. Therefore, the inspections are required prior to further flight, and this AD must be issued immediately.

None of the Agusta Model AB412 helicopters affected by this action are on the U.S. Register. All helicopters included in the applicability of this rule are operated by non-U.S. operators under foreign registry; therefore, they are not directly affected by this AD action. However, the FAA considers that this rule is necessary to ensure that the unsafe condition is addressed in the event that any of these subject helicopters are imported and placed on the U.S. Register in the future.

Should an affected helicopter be imported and placed on the U.S. Register in the future, it would require approximately 2.5 work hours to accomplish all of the corrective actions (replacing the retention pin and inspecting) initially, at an average labor rate of $60 per work hour. Required parts would cost $85. Based on these figures, the cost impact of this AD would be $235 per helicopter.

Since this AD action does not affect any helicopter that is currently on the U.S. Register, it has no adverse economic impact and imposes no additional burden on any person. Therefore, notice and public procedures hereon are unnecessary and the amendment may be made effective in less than 30 days after publication in the Federal Register.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket No. 98-SW-69-AD.” The postcard will be date stamped and returned to the commenter.

The regulations adopted herein will not have a substantial direct effect on the States, on the relationship between the national government and the States, or on the distribution of power and responsibilities among the various levels of government. Therefore, it is determined that this final rule does not have federalism implications under Executive Order 13132.

The FAA has determined that notice and public comment are unnecessary in promulgating this regulation; therefore, it can be issued immediately to correct an unsafe condition in aircraft since none of these model helicopters are registered in the United States. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

AD 2000-02-09 Agusta: Amendment 39-11528. Docket No. 98-SW-69-AD.

Applicability: Model AB412 helicopters with rescue hoist, part number BL10300-60 or BL10300-59, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent separation of the rescue hoist hook assembly from the helicopter due failure of the rescue hoist hook assembly retention pin (retention pin), accomplish the following:

(a) Before further flight, replace the retention pin, part number (P/N) BL2395, of the rescue hoist hook assembly, P/N S6150-61090-1, as follows:

(1) Disconnect the helicopter battery and ensure the external electrical power is not connected.

(2) Remove the safety wire and remove and discard the retention pin. Retain the two washers, P/N AN960C816L, for reuse (Figure 1).

(3) Install a zero-hours time-in-service (TIS) retention pin, P/N BL2395, and the two washers, P/N AN960C816L, (Figure 1). Safety wire the retention pin to the hook assembly using safety wire, P/N MS 20995C32.

(b) Before further flight, and thereafter prior to each flight in which the rescue hoist will be operated:

(1) Inspect the rescue hoist for oil leakages and proper electrical and mechanical connections.

(2) Inspect the retention pin, P/N BL2395, of the ring assembly, P/N BL2441, for safety wire integrity.

(3) Inspect the pin, P/N NAS516C4-6 or P/N MS171524, installed on the housing, P/N BL1357-1, and verify the absence of any rotation between the housing and the adapter, P/N BL1355, (Figure 1).

(4) Inspect the rescue hoist hook to ensure it rotates freely relative to the housing (number 3 on Figure 1).

(5) Correct any discrepancies found in step (1), (2), (3), or (4).

(c) At intervals not to exceed 25 hours time-in-service (TIS), inspect the rescue hoist as follows:

(1) Inspect the attachment and support for cracks, wear, corrosion, damage, and security. Replace any parts that have cracks, wear, corrosion, or damage with an airworthy part.

(2) Inspect the cable for fraying, wear, and corrosion. If fraying, wear, or corrosion is found, replace the cable with an airworthy cable.

(3) Inspect the cable for proper routing through the guide rollers, pulley, and drum. Correct cable routing if necessary.

(d) At intervals not to exceed 12 calendar months, inspect the retention pin as follows:

(1) Referring to Figure 1, remove the safety wire and the retention pin. Retain the two washers, P/N AN960C816L, for re-use. Inspect the retention pin for scratches or deformations. If a scratch or deformation is found, replace the retention pin with an airworthy retention pin.

(2) Install the retention pin and the two washers, P/N AN960C816L, (Figure 1). Safety wire the retention pin to the hook assembly using safety wire, P/N MS20995C32.

BILLING CODE 4910-13-P

(e) An alternative method of compliance or adjustment of the compliance time that provides an acceptable level of safety may be used if approved by the Manager, FAA, Regulations Group, Rotorcraft Directorate. Operators shall submit their requests through an FAA Principal Maintenance Inspector, who may concur or comment and then send it to the Manager, Regulations Group.

Note 2: Information concerning the existence of approved alternative methods of compliance with this AD, if any, may be obtained from the Regulations Group.

(f) This amendment becomes effective on February 10, 2000.

Note 3: The subject of this AD is addressed in Registro Aeronautico Italiano (Italy) AD 98-186, dated May 26, 1998.

Issued in Fort Worth, Texas, on January 19, 2000.
Henry A. Armstrong,
Manager, Rotorcraft Directorate, Aircraft Certification Service.

[FR Doc. 00-1770 Filed 1-25-00; 8:45 am]

BILLING CODE 4910-13-P